DEPARTMENT OF ENERGY

Federal Energy Regulatory Commission

Combined Notice of Filings #2

Take notice that the Commission received the following electric rate filings:

Docket Numbers: ER18-518-000.

Applicants: NorthWestern Corporation.

Description: § 205(d) Rate Filing: SA 290 9th Rev—NITSA with Oldcastle Materials Cement Holdings to be effective 3/1/2018.

Filed Date: 12/22/17.

Accession Number: 20171222-5187.

Comments Due: 5 p.m. ET 1/12/18.

Docket Numbers: ER18-519-000.

Applicants: ALLETE Clean Energy, Inc.

Description: § 205(d) Rate Filing: Revisions to market-based rate tariff to be effective 12/23/2017.

Filed Date: 12/22/17.

Accession Number: 20171222-5204.

Comments Due: 5 p.m. ET 1/12/18.

Docket Numbers: ER18-520-000.

Applicants: Entergy New Orleans, LLC.

Description: Baseline eTariff Filing: Notice of Succession to be effective 12/22/2017.

Filed Date: 12/22/17.

Accession Number: 20171222-5205.

Comments Due: 5 p.m. ET 1/12/18.

Docket Numbers: ER18-521-000.

Applicants: ALLETE, Inc.

Description: § 205(d) Rate Filing: Revisions to market-based rate tariff to be effective 12/23/2017.

Filed Date: 12/22/17.

Accession Number: 20171222-5206.

Comments Due: 5 p.m. ET 1/12/18.

Docket Numbers: ER18-522-000.

Applicants: Armenia Mountain Wind, LLC.

Description: § 205(d) Rate Filing: Revisions to market-based rate tariff to be effective 12/23/2017.

Filed Date: 12/22/17.

Accession Number: 20171222-5207.

Comments Due: 5 p.m. ET 1/12/18.

Docket Numbers: ER18-523-000.

Applicants: Chanarambie Power Partners, LLC.

Description: § 205(d) Rate Filing: Revisions to market-based rate tariff to be effective 12/23/2017.

Filed Date: 12/22/17.

Accession Number: 20171222-5211.

Comments Due: 5 p.m. ET 1/12/18.

Docket Numbers: ER18-524-000.

Applicants: New York State Reliability Council, L.L.C.

Description: Informational Filing of the Revised Installed Capacity Requirement for the New York Control Area by the New York State Reliability Council, L.L.C.

Filed Date: 12/22/17.

Accession Number: 20171222-5213.

Comments Due: 5 p.m. ET 1/12/18.

Docket Numbers: ER18-525-000.

Applicants: NorthWestern Corporation.

Description: § 205(d) Rate Filing: ER 304 11th Rev—NITSA with Barretts Minerals to be effective 3/1/2018.

Filed Date: 12/22/17.

Accession Number: 20171222-5212.

Comments Due: 5 p.m. ET 1/12/18.

Docket Numbers: ER18-526-000.

Applicants: Lake Benton Power Partners LLC.

Description: § 205(d) Rate Filing: Revisions to market-based rate tariff to be effective 12/23/2017.

Filed Date: 12/22/17.

Accession Number: 20171222-5214.

Comments Due: 5 p.m. ET 1/12/18.

Docket Numbers: ER18-527-000.

Applicants: Storm Lake Power Partners I LLC.

Description: § 205(d) Rate Filing: Revisions to market-based rate tariff to be effective 12/23/2017.

Filed Date: 12/22/17.

Accession Number: 20171222-5215.

Comments Due: 5 p.m. ET 1/12/18.

Docket Numbers: ER18-528-000.

Applicants: Storm Lake Power Partners II, LLC.

Description: § 205(d) Rate Filing: Revisions to market-based rate tariff to be effective 12/23/2017.

Filed Date: 12/22/17.

Accession Number: 20171222-5216.

Comments Due: 5 p.m. ET 1/12/18.

Docket Numbers: ER18-529-000.

Applicants: Condon Wind Power, LLC.

Description: § 205(d) Rate Filing: Revisions to market-based rate tariff to be effective 12/23/2017.

Filed Date: 12/22/17.

Accession Number: 20171222-5217.

Comments Due: 5 p.m. ET 1/12/18.

Docket Numbers: ER18-530-000.

Applicants: NorthWestern Corporation.

Description: § 205(d) Rate Filing: SA 35 5th Rev—NITSA with the Town of Philipsburg MT to be effective 3/1/2018.

Filed Date: 12/22/17.

Accession Number: 20171222-5234.

Comments Due: 5 p.m. ET 1/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2017.
Nathaniel J. Davis, Sr.,
Deputy Secretary.

[FR Doc. 2017-28319 Filed 1-2-18; 8:45 am]

BILLING CODE 6717-01-P